NATIONAL EDUCATION GOALS PANEL

Meeting

AGENCY: National Education Goals Panel.

ACTION: Notice of meeting.

SUMMARY: This notice sets forth the date and location of a forthcoming meeting of the National Education Goals Panel (NEGP). This notice also describes the functions of the Panel.

DATE AND TIME: Saturday, February 24, 2001 from 9:30 a.m. to 11 a.m.

ADDRESSES: National Press Club, 529 14th Street, NW., Holeman Lounge, 13th Floor, Washington, DC 20005.

FOR FURTHER INFORMATION CONTACT: Emily Wurtz, Acting Executive Director, 1255 22nd Street, NW., Suite 502, Washington, DC 20037, Telephone: (202) 724-0015.

SUMMARY: The National Education Goals Panel was established to monitor, measure and report state and national progress toward achieving the eight National Education Goals, and report to the states and the Nation on the progress.

Agenda Items: The agenda items will focus upon recommendations made by NEGP's Measuring Success Task Force. Governor John R. McKernan, Task Force Chair, will report recommendations of new data in student academic achievement, adult literacy, teacher education and professional development, and early childhood education. In addition, the incoming NEGP Chair, Governor Frank O'Bannon, will announce upcoming Panel initiatives for 2001.

Dated: February 9, 2001.
Emily Wurtz,
Acting Executive Director, National Education Goals Panel.

[FR Doc. 01-3798 Filed 2-14-01; 8:45 am]

BILLING CODE 4010-01-M